DEPARTMENT OF THE TREASURY

Customs Service

Customs COBRA Fees Advisory Committee

AGENCY: U.S. Customs Service, Department of the Treasury.

ACTION: Notice of meeting.

SUMMARY: This document announces the date, time and location of the first meeting of the U.S. Customs COBRA Fees Advisory Committee. The meeting is open to the public.

DATES: The first meeting of the U.S. Customs COBRA Fees Advisory Committee will be held on June 28, 2002, from 10 a.m. until 12 p.m., in room 6.4-B of the Ronald Reagan Building located at 1300 Pennsylvania Avenue, NW., Washington, DC 20229. Interested parties must provide Customs with notice of their intent to attend the meeting by June 25, 2002. Notice may be provided to Carlene Warren at (202) 927-1391 or via e-mail at Carlene.warren@customs.treas.gov.

FOR FURTHER INFORMATION CONTACT: Carlene Warren, U.S. Customs Service, Office of Field Operations, Passenger Programs, at (202) 927-1391 or via e-mail at Carlene.warren@customs.treas.gov.

SUPPLEMENTARY INFORMATION:

Background

Section 13031 of the Consolidated Omnibus Budget Reconciliation Act (COBRA) of 1985 (19 U.S.C. 58c), as amended by the Miscellaneous Trade and Technical Corrections Act of 1999 (Public Law 106-36), directs the Commissioner of Customs to establish an advisory committee whose membership consists of representatives from the airline, cruise ship, and other transportation industries who may be subject to fees under 19 U.S.C. 58c.

The Committee will advise the Commissioner of Customs on issues relating to inspection services performed by the Customs Service, including issues pertaining to the time periods during which inspections should be performed, the proper number and deployment of inspection officers, and the amount of any proposed fees.

On February 8, 2000, Customs published a notice in the Federal Register (65 FR 6254) announcing the establishment of a COBRA Fee Advisory Committee, the criteria for membership, and requesting membership applications. In a notice published in the Federal Register (65 FR 38884) on June 22, 2000, Customs set forth amended criteria for membership in the Customs COBRA Fees Advisory Committee and requested that new applications for membership be submitted. A subsequent notice published in the Federal Register (65 FR 69993) on November 21, 2000, again amended membership criteria and extended the time within which membership applications were to be submitted.

This notice announces the first COBRA Fee Advisory Committee meeting. The meeting is scheduled for June 28, 2002, from 10 a.m. until 12 p.m., in room 6.4-B of the Ronald Reagan Building located at 1300 Pennsylvania Avenue, NW., Washington, DC 20229.

The agenda for this meeting will cover issues pertaining to the performance of Customs inspection services. The meeting is open to the public; however, participation in the Committee's deliberations is limited to Committee members and Customs and Treasury Department staff. Interested parties, other than Advisory Committee members, who wish to attend the meeting should contact Carlene Warren by June 25, 2002, at (202) 927-1391 or via e-mail at Carlene.warren@customs.treas.gov.

Dated: June 11, 2002.
Douglas M. Browning,
Deputy Commissioner of Customs.

[FR Doc. 02-15110 Filed 6-13-02; 8:45 am]

BILLING CODE 4820-02-P